DEPARTMENT OF TRANSPORTATION

National Highway Traffic Safety Administration

Reports, Forms and Record Keeping Requirements; Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on December 14, 1999 [64 FR 69814-69815].

DATES: Comments must be submitted on or before September 22, 2000.

FOR FURTHER INFORMATION CONTACT: Alan Block at the National Highway Traffic Safety Administration, Office of Research and Traffic Records (NTS-31), 202-366-6401. 400 Seventh Street, SW, Room 6240, Washington, DC 20590.

SUPPLEMENTARY INFORMATION:

National Highway Traffic Safety Administration

Title: 2000 Motor Vehicle Occupant Safety Survey

OMB Number: 2127—New.

Type of Request: New information collection requirement.

Abstract: Purpose of this survey is to provide NHTSA with critical information needed to develop and implement effective strategies that meet the agency's mandate to improve traffic safety. The data will be used to identify information deficits among the public, obstacles to public safety, and targets for intervention activities in areas of occupant protection.

Affected Public: randomly selected members of the general public aged sixteen and older in telephone households.

Estimated Total Annual Burden: 3,845.

ADDRESSES: Send comments, within 30 days, to the Office of Information and Regulatory Affairs, Office of Management and Budget, 725-17th Street, NW, Washington, DC 20503, Attention NHTSA Desk Officer.

Comments are invited on: Whether the proposed collection of information is necessary for the proper performance of the functions of the Department, including whether the information will have practical utility; the accuracy of the Departments estimate of the burden of the proposed information collection; ways to enhance the quality, utility and clarity of the information to be collected; and ways to minimize the burden of the collection of information on respondents, including the use of automated collection techniques or other forms of information technology.

A Comment to OMB is most effective if OMB receives it within 30 days of publication.

Issued in Washington, D.C., on August 18, 2000.
Herman L. Simms,
Associate Administrator for Administration.

[FR Doc. 00-21497 Filed 8-22-00; 8:45 am]

BILLING CODE 4910-59-P